DEPARTMENT OF LABOR

Employment and Training Administration

[TA-W-39,373]

The Carbide/Graphite Group, Inc. St. Marys, PA; Amended Certification Regarding Eligibility To Apply for Worker Adjustment Assistance

In accordance with section 223 of the Trade Act of 1974 (19 U.S.C. 2273) the Department of Labor issued a Notice of Certification Regarding Eligibility to Apply for Worker Adjustment Assistance on July 26, 2001, applicable to workers of The Carbide/Graphite Group, Inc., St. Marys, Pennsylvania. The notice was published in the Federal Register on August 15, 2001 (FR 66 42880).

At the request of the State agency, the Department reviewed the certification for workers of the subject firm. The workers are engaged in the production of graphite electrodes.

New findings show that there was a previous certification, TA-W-35,296, issued on February 5, 1999, for workers of The Carbide/Graphite Group, Inc., St. Marys, Pennsylvania who were engaged in employment related to the production of graphite electrodes. That certification expired February 5, 2001. To avoid an overlap in worker group coverage, this certification is being amended to change the impact date from May 18, 2000 to February 6, 2001, for workers of the subject firm.

The amended notice applicable to TA-W-39,373 is hereby issued as follows:

All workers of The Carbide/Graphite Group, St. Marys, Pennsylvania who became totally or partially separated from employment on or after February 6, 2001, through July 26, 2003, are eligible to apply for adjustment assistance under Section 223 of the Trade Act of 1974.

Signed at Washington, DC this 23rd day of August, 2001.
Linda G. Poole,
Certifying Officer, Division of Trade Adjustment Assistance.

[FR Doc. 01-22693 Filed 9-10-01; 8:45 am]

BILLING CODE 4510-30-M